DEPARTMENT OF DEFENSE

Notice To Reopen Public Scoping for the Homeland Defense Radar-Hawaii Environmental Impact Statement; Correction

AGENCY: Missile Defense Agency, Department of Defense (DoD).

ACTION: Notice of intent; correction.

SUMMARY: The Department of Defense published a document in the Federal Register of February 26, 2021, concerning a public scoping period for the Homeland Defense Radar-Hawaii (HDR-H) Environmental Impact Statement (EIS). The document contained an incorrect web address.

FOR FURTHER INFORMATION CONTACT: Patricia Toppings, 571-372-0485.

SUPPLEMENTARY INFORMATION:

Correction

In the Federal Register of Friday, February 26, 2021, in FR Doc. 2021-03449, on page 11735, in the first column, correct the sixth line of the “For Further Information Contact” section to read: “https://www.mda.mil/hdrh.html.”

On page 11735, in the second column, correct the 19th line of the “Supplementary Information” section to read: “https://www.mda.mil/hdrh.html.”

Dated: March 2, 2021.
Aaron T. Siegel,
Alternate OSD Federal Register Liaison Officer, Department of Defense.

[FR Doc. 2021-04648 Filed 3-5-21; 8:45 am]

BILLING CODE 5001-06-P